DEPARTMENT OF LABOR

Employment and Training Administration

[TA-W-75,089; TA-W-75,089A]

Startek USA, Inc. Alexandria, LA; Startek USA, Inc., Collinsville, VA; Amended Certification Regarding Eligibility To Apply for Worker Adjustment Assistance

In accordance with Section 223 of the Trade Act of 1974, as amended (“Act”), 19 U.S.C. 2273, the Department of Labor issued a Certification of Eligibility to Apply for Worker Adjustment Assistance on January 26, 2011, applicable to workers of StarTek USA, Inc., Alexandria, Louisiana. The workers are engaged in the supply of call center services related to customer care and technical support. The Department's Notice was published in the Federal Register on February 10, 2011 (76 FR 7587).

On its own motion, the Department reviewed the certification for workers of the subject firm.

New information shows that the Collinsville, Virginia location of StarTek USA, Inc. supplied call center services such as sales and technical support for outside customers of the subject firm, and supports and operates in conjunction with the Alexandria, Louisiana location. Both locations have experienced worker separations during the relevant time period, a decline in customer sales, and were impacted by an increase in imports of call center services to vendors in foreign countries.

Accordingly, the Department is amending the certification to include workers of StarTek USA, Inc., Collinsville, Virginia.

The amended notice applicable to TA-W-75,089 is hereby issued as follows:

All workers of StarTek USA, Inc., Alexandria, Louisiana (TA-W-75,089) and StarTek USA, Inc., Collinsville, Virginia (TA-W-75,089A), who became totally or partially separated from employment on or after January 10, 2010 through January 26, 2013, and all workers in the group threatened with total or partial separation from employment on the date of certification through two years from the date of certification, are eligible to apply for adjustment assistance under Chapter 2 of Title II of the Trade Act of 1974, as amended.

Signed in Washington, DC, this 27th day of January, 2012.
Del Min Amy Chen,
Certifying Officer, Office of Trade Adjustment Assistance.

[FR Doc. 2012-2888 Filed 2-7-12; 8:45 am]

BILLING CODE 4510-FN-P